DEPARTMENT OF DEFENSE

Office of the Secretary

[Docket ID: DoD-2013-OS-0223]

Submission for OMB Review; Comment Request

ACTION: Notice.

SUMMARY: The Department of Defense has submitted to OMB for clearance, the following proposal for collection of information under the provisions of the Paperwork Reduction Act (44 U.S.C. Chapter 35).

DATES: Consideration will be given to all comments received by June 30, 2014.

FOR FURTHER INFORMATION CONTACT: Fred Licari, 571-372-0493.

SUPPLEMENTARY INFORMATION: Title, Associated Form and OMB Number: Assessing Options for CONUS Domestic Dependents Elementary and Secondary Schools (DDESS); OMB Control Number 0704-TBD.

Type of Request: New.

Number of Respondents: 28.

Responses per Respondent: 1.

Annual Responses: 28.

Average Burden per Response: 120 minutes.

Annual Burden Hours: 56.

Needs and Uses: The objective of this project is to recommend options that most effectively balance cost and quality considerations for primary and secondary schooling of military dependents on each of the 15 continental United States (CONUS) installations where the Department of Defense currently operates Domestic Dependents Elementary and Secondary Schools (DDESS) or contracts with local educational agencies (LEAs) to operate schools on the installation. As part of the study, we will interview superintendents of LEAs that are in close proximity to installations that have DDESS schools (excluding those installations that only have special arrangement schools). The interviews will capture information on the approach the LEAs will adopt if they were given the responsibility to educate DDESS students, as well as identify factors that might facilitate or hinder LEAs taking the responsibility of educating DDESS students. This information is critical as it will identify whether transferring DDESS schools to LEAs is even a feasible option that could be plausibly considered for the governance of the current CONUS DDESS schools.

Affected Public: Individuals or households.

Frequency: Once.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: May 23, 2014.
Aaron Siegel,
Alternate OSD Federal Register Liaison Officer, Department of Defense.

[FR Doc. 2014-12453 Filed 5-28-14; 8:45 am]

BILLING CODE 5001-06-P